EXPORT-IMPORT BANK

[Public Notice 79]

Agency Information Collection Activities: Proposed Collection; Comment Request

AGENCY: Export Import Bank of the U.S.

ACTION: Notice and request for comments.

SUMMARY: The Export-Import Bank, as a part of its continuing effort to reduce paperwork and respondent burden, invites the general public and other Federal Agencies to comment on the proposed information collection, as required by the Paperwork Reduction Act of 1995. The form will be used by Banks to apply for comprehensive or political insurance coverage on foreign banks for letter of credit transactions.

Our customers will be able to submit this form on paper or electronically.

DATES: Written comments should be received on or before April 3, 2006 to be assured of consideration.

ADDRESSES: Direct all comments and requests for additional information to Walter Kosciow, Export-Import Bank of the U.S., 811 Vermont Avenue, NW., Washington, DC 20571, (202) 565-3649.

SUPPLEMENTARY INFORMATION: Title and Form Number: Export-Import Bank of the United States Application for Issuing Bank Credit Limit (IBCL) Under Bank Letter of Credit Policy, EIB 92-36.

OMB Number: None.

Type of Review: Regular.

Need and Use: The information requested enables the applicant to provide Ex-Im Bank with the information necessary to process credit risk applications involving foreign letter of credit issuing banks.

Affected Public: The form affects entities involved in the export of U.S. goods and services.

Estimated Annual Respondents: 60.

Estimated Time Per Respondent: 20 minutes.

Estimated Annual Burden: 240.

Frequency of Reporting or Use: 1 to 12 times per year depending on the particular respondent's need/risk portfolio.

Dated: January 26, 2006.
Solomon Bush,
Agency Clearance Officer.

BILLING CODE 6690-01-M

[FR Doc. 06-935 Filed 1-31-06; 8:45 am]

BILLING CODE 6690-01-C